DEPARTMENT OF COMMERCE

National Oceanic and Atmospheric Administration

[I.D. 071806I]

North Pacific Fishery Management Council; Public Meeting

AGENCY: National Marine Fisheries Service (NMFS), National Oceanic and Atmospheric Administration (NOAA), Commerce.

ACTION: Notice of a public meeting.

SUMMARY: The North Pacific Fishery Management Council's Scientific and Statistical Committee (SSC) will meet, in Juneau, AK.

DATES: They will begin their plenary session at 8 a.m. on Tuesday, August 15 and continue through the Wednesday, August 16, 2006..

ADDRESSES: The meeting will be held at the Federal Building, 709 W 9th Avenue, 4th Floor, NMFS Conference Room, Juneau, AK 99801.

Council address: North Pacific Fishery Management Council, 605 W. 4th Avenue, Suite 306, Anchorage, AK 99501-2252.

FOR FURTHER INFORMATION CONTACT: Council staff contact, Bill Wilson; telephone: (907) 271-2809.

SUPPLEMENTARY INFORMATION: SSC review of the Steller Sea Lion recovery plan: (1) Review of the recovery plan through Appendix 2 (ending on p. 217); (2) review of the PVA (Appendix 3, starting on p. 218); and (3) review of the Steller Sea Lion Mitigation Committee mitigation tool.

Special Accommodations

These meetings are physically accessible to people with disabilities. Requests for sign language interpretation or other auxiliary aids should be directed to Gail Bendixen at (907) 271-2809 at least 7 working days prior to the meeting date.

Dated: July 19, 2006.
Tracey L. Thompson,
Acting Director, Office of Sustainable Fisheries, National Marine Fisheries Service.

[FR Doc. E6-11684 Filed 7-21-06; 8:45 am]

BILLING CODE 3510-22-S